DEPARTMENT OF THE INTERIOR

National Park Service

Notice of Inventory Completion for Native American Human Remains and Associated Funerary Object in the Possession of the U.S. Department of Justice, Federal Bureau of Investigation (FBI), Louisville, KY

AGENCY: National Park Service, Interior.

ACTION: Notice.

Notice is hereby given in accordance with the provisions of the Native American Graves Protection and Repatriation Act (NAGPRA), 43 CFR 10.9, of the completion of an inventory of Native American human remains and associated funerary object in the possession of the U.S. Department of Justice, Federal Bureau of Investigation (FBI), Louisville, KY.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Louisville Staff Archaeologist Philip J. DiBlasi in consultation with representatives of the Absentee-Shawnee Tribe of Indians of Oklahoma; Delaware Nation, Oklahoma; Delaware Tribe of Indians, Oklahoma; Eastern Shawnee Tribe of Oklahoma; Miami Tribe of Oklahoma; Peoria Tribe of Indians of Oklahoma; and Shawnee Tribe, Oklahoma.

On January 27, 1999, a human cranium was recovered by FBI agents from Sean Adam Long. These human remains were purchased from Mr. Long by FBI agents acting in an undercover capacity. On February 18, 1999, a search warrant was executed at Mr. Long’s home near Madisonville, KY. Additional human remains were recovered by FBI agents during the search. The human remains consist of two human crania and two human teeth. One associated funerary object was also recovered during the search. Osteological assessment of the human remains recovered on January 27 and February 18, 1999, indicate that they represent five individuals of Native American ancestry. No known individuals were identified.

A label on the interior of the box in which one cranium was recovered reads ”Caldwell County.” Information provided by Mr. Long indicates these human remains were excavated from an archeological site in Caldwell County, KY. Osteological evidence indicates that these human remains were most likely buried during the Prehistoric period (before A.D. 1740). Archeological and historical evidence indicates that the Native American population that lived in Caldwell County, KY during the Prehistoric period is ancestral to the present-day Delaware Nation, Oklahoma; Delaware Tribe of Indians, Oklahoma; and Peoria Tribe of Indiana of Oklahoma.

Information provided by Mr. Long indicates that the two teeth representing two individuals were excavated from archeological sites in western Kentucky. Osteological evidence indicates that these human remains were most likely buried during the Prehistoric period (before A.D. 1740). Archeological and historical evidence indicates that the Native American population that lived in western Kentucky during the Prehistoric period is ancestral to the present-day Delaware Nation, Oklahoma; Delaware Tribe of Indians, Oklahoma; and Peoria Tribe of Indians of Oklahoma.

The associated funerary object recovered on February 18, 1999, consists of fragments of one spherical shaped pottery vessel. The vessel is 4-5 inches in diameter and has two strap handles. Vessels of this type are almost exclusively found with sub-adults buried during the Mississipian period (A.D. 1250-1700). This funerary object is believed to have been associated with the human remains recovered from a site in western Kentucky. Archeological and historical evidence indicates that the Mississipian period population that lived in western Kentucky is ancestral to the present-day Delaware Nation, Oklahoma; Delaware Tribe of Indians, Oklahoma; and Peoria Tribe of Indiana of Oklahoma.

The determination of cultural affiliation for the remains of the two other individuals is included in a separate Federal Register notice.

On March 7, 2001, Sean Adam Long pleaded guilty in U.S. District Court in Owensboro, KY to three counts of illegal trafficking in Native American human remains [18 U.S.C. 1170 (a)] and one count of knowingly making a materially false, fictitious, or fraudulent statement or representation [18 U.S.C. 1001]. A single count of trafficking in interstate or foreign commerce in archaeological resources the excavation, removal, sale, purchase, exchange, transportation or receipt of which was wrongful under State or local law [16 U.S.C. 470ee (c)] was dismissed in return for Mr. Long’s plea to making a false statement to FBI agents.

Based on the above-mentioned information, FBI officials determined that, pursuant to 43 CFR 10.2 (d)(1), the human remains listed above represent the physical remains of three individuals of Native American ancestry. FBI officials also determined that, pursuant to 43 CFR 10.2 (d)(2)(i), the object listed above is reasonably believed to have been placed with or near individual human remains at the time of death or later as part of a death rite or ceremony and to have been made exclusively for burial purposes. Lastly, FBI officials determined that, pursuant to 43 CFR 10.2 (e), there is a relationship of shared group identity that can be reasonably traced between the three Native American human remains and one associated funerary object from and the Peoria Tribe of Indians of Oklahoma; Delaware Nation, Oklahoma; and Delaware Tribe of Indians, Oklahoma.

This notice has been sent to officials of the Absentee-Shawnee Tribe of Indians of Oklahoma; Delaware Nation, Oklahama; Delaware Tribe of Indians, Oklahoma; Eastern Shawnee Tribe of Oklahoma; Miami Tribe of Oklahoma; Peoria Tribe of Indians of Oklahoma; and Shawnee Tribe, Oklahoma. Representatives of any other Indian tribe that believes itself to be culturally affiliated with these human remains and associated funerary object should contact Randy Ream, Assistant United States Attorney, 510 West Broadway, 10th Floor, Louisville, KY 40202, phone (502) 582-5911, before September 30, 2002. Repatriation of the human remains and associated funerary object to the Peoria Tribe of Indians of Oklahoma; Delaware Nation, Oklahoma; and Delaware Tribe of Indians, Oklahoma may begin after that date if no additional claimants come forward.

Dated: August 1, 2002.
Robert Stearns,
Manager, National NAGPRA Program.

[FR Doc. 02-21998 Filed 8-28-02; 8:45 am]

BILLING CODE 4310-70-S